DEPARTMENT OF LABOR

Employment and Training Administration

[TA-W-58,288; TA-W-58,288A]

Eastalco Aluminum Company, a Subsidiary of Alcoa; Frederick, Maryland; Eastalco Aluminum Company, a Subsidiary of Alcoa, Pier Facility; Baltimore, Maryland; Notice of Revised Determination of Alternative Trade Adjustment Assistance on Reconsideration

By letter dated March 20, 2006, representatives of the United Workers, Local 7886, and the company officials requested administrative reconsideration regarding Alternative Trade Adjustment Assistance (ATAA). The certification for Trade Adjustment Assistance (TAA) was signed on February 2, 2006. The Notice of determination was published in the Federal Register on February 22, 2006 (71 FR 9160).

The initial investigation determined that subject worker group possess skills that are easily transferable.

New information provided by the company officials show that the workers possess skills that are not easily transferable.

At least five percent of the workforce at the subject from is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

All workers of Eastalco Aluminum Company, A Subsidiary of Alcoa, Frederick, Maryland (TA-W-58,288) and Eastalco Aluminum Company, A Subsidiary of Alcoa, Pier Facility, Baltimore, Maryland (TA-W-58,288A) who became totally or partially separated from employment on or after November 7, 2004 through February 2, 2008, are eligible to apply for adjustment assistance under Section 223 of the Trade Act of 1974, and are also eligible to apply for alternative trade adjustment assistance under Section 246 of the Trade Act of 1974.

Signed in Washington, DC, this 23rd day of March 2006.
Elliott S. Kushner,
Certifying Officer, Division of Trade Adjustment Assistance.

[FR Doc. E6-4855 Filed 4-3-06; 8:45 am]

BILLING CODE 4510-30-P